DEPARTMENT OF THE INTERIOR

Bureau of Land Management

Fish and Wildlife Service

National Park Service

[NPS-WASO-VRP-14127; PXXVPADO515]

DEPARTMENT OF AGRICULTURE

Forest Service

Proposed Fee Schedule for Commercial Filming and Still Photography Permits

AGENCY: Office of the Secretary, Bureau of Land Management, U.S. Fish and Wildlife Service, National Park Service, Interior; Forest Service, Agriculture.

ACTION: Extension of public comment period.

SUMMARY: The Department of the Interior and the Department of Agriculture are extending the public comment period for the proposed fee schedule for commercial filming and still photography conducted on public lands under their jurisdiction. The additional comment period is in response to a request.

DATES: Written comments will be accepted through October 23, 2013.

ADDRESSES: You may submit comments by any of the following methods:

• Email: location_fee_notice_2013@nps.gov; put “Commercial Filming Fee Schedule” in the subject line.

• Mail: Lee Dickinson, Special Park Uses Program Manager, National Park Service, 1849 C Street NW., ORG CODE 2460, Washington, DC 20240.

FOR FURTHER INFORMATION CONTACT: Lee Dickinson, National Park Service at 202-513-7092 or by email at lee_dickinson@nps.gov. Individuals who use telecommunication devices for the deaf may call the Federal Information Relay Service (FIRS) at 1-800-877-8339 to contact the above named individual during normal business hours. The FIRS is available 24 hours a day, 7 days a week. You will receive a reply during normal business hours.

SUPPLEMENTARY INFORMATION: On August 22, 2013 we published in the Federal Register a proposed location fee schedule to establish land-use fees for commercial filming and still photography that are consistent for the National Park Service, the U.S. Fish and Wildlife Service, the Bureau of Land Management and U.S. Forest Service (78 FR 52209). The fees would provide a fair return to the United States, as required by law. Comments were accepted for 30 days, closing on September 23, 3013. After receiving a request for additional time to comment, we are extending the public comment period for 30 days, and will accept comments through October 23, 2013. If you already commented on the rule you do not have to resubmit your comments.

Dated: September 19, 2013.
Rachel Jacobson,
Principal Deputy Assistant Secretary for Fish and Wildlife and Parks.

[FR Doc. 2013-23186 Filed 9-20-13; 8:45 am]

BILLING CODE 4312-EJ-P